DEPARTMENT OF HOMELAND SECURITY

Coast Guard

33 CFR Part 117

[CGD13-04-004]

Drawbridge Operation Regulations; Snake River, Burbank, WA

AGENCY: Coast Guard, DHS.

ACTION: Notice of temporary deviation from regulations.

SUMMARY: The Commander, Thirteenth Coast Guard District, has issued a temporary deviation from the regulation governing the operation of the Burlington Northern Santa Fe Railroad Drawbridge across the Snake River, mile 1.5, at Burbank, Washington. This deviation allows the vertical lift span to be temporarily closed during two periods while wire ropes are replaced. The deviation is necessary to facilitate this essential maintenance.

DATES: This deviation is effective from 8 a.m. March 8 through 5 p.m. March 12, 2004, and from 8 a.m. March 15 through 5 p.m. March 16, 2004.

ADDRESSES: Materials referred to in this document are available for inspection or copying at Commander (oan), Thirteenth Coast Guard District, 915 Second Avenue, Seattle, Washington 98174-1067 between 7:45 a.m. and 4:15 p.m., Monday through Friday, except Federal holidays. The telephone number is (206) 220-7270. The Bridge Section of the Aids to Navigation and Waterways Management Branch maintains the public docket for this temporary deviation.

FOR FURTHER INFORMATION CONTACT: Austin Pratt, Chief, Bridge Section, Aids to Navigation and Waterways Management Branch, (206) 220-7282.

SUPPLEMENTARY INFORMATION: The Burlington Northern Santa Fe Railroad (BNSF) requested this deviation from normal operations to facilitate the replacement of wire ropes on the lift span and its supporting towers. This project is occurring during the annual lock maintenance closure on the Snake River. During lock closure commercial traffic will be much reduced so that few, if any, vessels will be hindered by this bridge maintenance project. Currently, this drawbridge is maintained in the open position except for the passage of trains.

In accordance with 33 CFR 117.35(c), this work will be performed with all due speed in order to return the bridge to normal operation as soon as possible. This deviation from the operating regulations is authorized under 33 CFR 117.35.

Dated: February 3, 2004.
Jeffrey M. Garrett,
Rear Admiral, U. S. Coast Guard, Commander, Thirteenth Coast Guard District.

[FR Doc. 04-2989 Filed 2-10-04; 8:45 am]

BILLING CODE 4910-15-P